DEPARTMENT OF TRANSPORTATION

Federal Aviation Administration

14 CFR Part 39

[Docket No. FAA-2005-22731; Directorate Identifier 2005-NE-36-AD; Amendment 39-14389; AD 2005-24-09]

RIN 2120-AA64

Airworthiness Directives; McCauley Propeller Systems Propeller Assemblies Models 2D34C53/74E-X; D2A34C58/90AT-X; 3AF32C87/82NC-X; D3AF32C87/82NC-X; D3A32C88/82NC-X; D3A32C90/82NC-X; and 3AF34C92/90LF-X.

AGENCY: Federal Aviation Administration (FAA), Department of Transportation (DOT).

ACTION: Final rule; request for comments.

SUMMARY: The FAA is adopting a new airworthiness directive (AD) for McCauley Propeller Systems propeller assemblies, models 2D34C53/74E-X; D2A34C58/90AT-X; 3AF32C87/82NC-X; D3AF32C87/82NC-X; D3A32C88/82NC-X; D3A32C90/82NC-X; and 3AF34C92/90LF-X. This AD requires, within 10 flight hours or 10 days after the effective date of this AD, whichever occurs first, removing certain serial number propeller hubs from service. This AD results from a report by the manufacturer that they manufactured and released 40 propeller hubs with improperly machined socket retention threads. We are issuing this AD to prevent cracked propeller hubs, which could cause failure of the propeller hub, blade separation, and loss of control of the airplane.

DATES: This AD becomes effective December 15, 2005.

We must receive any comments on this AD by January 30, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact McCauley Propeller Systems, P.O. Box 7704, Wichita, KS 67277-7704, U.S.A.; telephone (800) 621-7767, for the service information identified in this AD.

FOR FURTHER INFORMATION CONTACT: Jeff Janusz, Aerospace Engineer, Wichita Aircraft Certification Office, FAA, Small Airplane Directorate, 1801 Airport Road, Wichita, KS 67209, telephone: (316) 946-4148; fax: (316) 946-4107.

SUPPLEMENTARY INFORMATION: In August of 2005, McCauley Propeller Systems reported to the FAA that a repair facility found a single, new, unused propeller hub with improperly machined socket retention threads. Further investigation revealed that McCauley Propeller Systems improperly machined socket retention threads on 40 propeller hubs, manufactured in 2004 and 2005. Using a propeller hub with improperly machined socket retention threads could cause concentrated loading on the threads, resulting in cracking of the hub and blade separation. This condition, if not corrected, could result in failure of the propeller hub, blade separation, and loss of control of the airplane.

FAA's Determination and Requirements of This AD

The unsafe condition described previously is likely to exist or develop on other McCauley Propeller Systems propeller assemblies, models 2D34C53/74E-X; D2A34C58/90AT-X; 3AF32C87/82NC-X; D3AF32C87/82NC-X; D3A32C88/82NC-X; D3A32C90/82NC-X; and 3AF34C92/90LF-X of the same type design. For that reason, we are issuing this AD to prevent cracked hubs, which could cause failure of the propeller hub, blade separation, and loss of control of the airplane. This AD requires, within 10 flight hours or 10 days after the effective date of this AD, whichever occurs first, removing affected propeller hubs from service, and sending those propeller hubs to a McCauley Service Center. This AD also requires, before assembly into a replacement propeller hub, visually inspecting the retention nut threads with a 10-power magnifier, and replacing the nut if necessary.

FAA's Determination of the Effective Date

Since an unsafe condition exists that requires the immediate adoption of this AD, we have found that notice and opportunity for public comment before issuing this AD are impracticable. Good cause exists for making this amendment effective in less than 30 days.

Comments Invited

This AD is a final rule that involves requirements affecting flight safety and was not preceded by notice and an opportunity for public comment. We invite you however, to send us any written relevant data, views, or arguments regarding this AD. Send your comments to an address listed under ADDRESSES. Include “AD Docket No. FAA-2005-22731; Directorate Identifier 2005-NE-36-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS web site, anyone can find and read the comments in any of our dockets. The dockets include the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-24-09 McCauley Propeller Systems: Amendment 39-14389. Docket No. FAA-2005-22731; Directorate Identifier 2005-NE-36-AD.

Effective Date

(a) This airworthiness directive (AD) becomes effective December 15, 2005.

Affected ADs

(b) None.

Applicability

(c) This AD applies to McCauley Propeller Systems propeller assemblies, models 2D34C53/74E-X; D2A34C58/90AT-X; 3AF32C87/82NC-X; D3AF32C87/82NC-X; D3A32C88/82NC-X; D3A32C90/82NC-X; and 3AF34C92/90LF-X, with the propeller hubs listed by serial number in the following Table 1:

Table 1.—Affected Propeller Hubs
Hub model | Hub serial number
C58, C34, C49, C78, C98 | 030725
| 030726
| 030727
| 030728
| 030729
| 030730
| 030748
| 030749
| 030750
| 030751
| 030752
| 030753
| 030754
| 030755
| 030756
| 030757
| 030758
| 030759
| 030760
| 050403
| 050407
| 050408
| 050410
| 050475
| 050477
C53 | 050389
C79, C90 | 042206
| 042207
| 042208
C77, C88 | 042201
| 042202
C87 blank index, C72, C93 | 042239
| 042524
| 042527
| 042528
| 042529
| 050071
| 050073
C92, C74, C86 | 050866
C87 D index | 050934

(d) Because a propeller hub can be interchanged and re-identified as a different model with the installation of different studs or adapters, any of the affected hubs could have been re-identified as a different model. Each propeller hub model listed in Table 1 of this AD is the original hub configuration when shipped from McCauley.

(e) The propeller hubs listed in Table 1 of this AD are installed on, but not limited to, the airplanes listed in the following Table 2:

Table 2.—Airplanes Installed On, But Not Limited To
Airplane | Model
Beagle | B206.
Bellanca | 14-19-3A, 17-30, 17-30A.
Cessna | 180 series.
| 182E thru R.
| 185, A, B, C, D, E, F.
| A185, E, F.
| A188, A188A, A188B.
| 206 series.
| P206, A, B, C, D, E.
| U206A, B, C, D, E, F, G.
| TP206A, B, C, D, E.
| TU206A, B, C, D, E, F.
| U206, A, B, C, D, E, F, G.
| 207, A, T207.
| 210-5, 210-5A, 210, A, B, C, D, E, F, G, H, I, J, K, L.
| T210F, G, H, J, K, L.
| 310I, 310P, Q, R, T310P, Q, R.
| 320, A, B, C, D, E, F.
| 335.
| 340, A.
| 401, A, B.
| 402, A, B, C.
| 411, A.
| 414, A.
| 421, A, B.
Fuji | FA-200-180.
Globe | GC-1B.
Hindustan | HA-31.
Meyers | 200B, C, D.
Mooney | M20C, D, G.
Navion | A, B, C, D, E, F, G, H.
Procaer | F15/C.
Transavia | PL12.
Windecker | AC-7

Unsafe Condition

(f) This AD results from a report by the manufacturer that they manufactured and released 40 propeller hubs with improperly machined socket retention threads. We are issuing this AD to prevent cracked propeller hubs, which could cause failure of the propeller hub, blade separation, and loss of control of the airplane.

Compliance

(g) You are responsible for having the affected propeller hubs removed from service within 10 flight hours or 10 days after the effective date of this AD, whichever occurs first, unless the actions have already been done.

Propeller Hub Removal

(h) Remove from service propeller assemblies with affected propeller hubs, listed in Table 1 of this AD.

(i) Send propeller assemblies with affected propeller hubs listed in Table 1 of this AD to a McCauley Service Center for disassembly, inspection, and propeller hub replacement with a serviceable propeller hub.

(j) Send uninstalled propeller hubs listed in Table 1 of this AD to a McCauley Service Center for replacement with a serviceable propeller hub.

Replacement Propeller Hub Pre-Installation Requirements

(k) For retention nuts that were removed from an affected propeller hub, visually inspect the retention nut threads with a 10-power magnifier before assembly into a replacement propeller hub. Reject the nut for any signs of galling, heavy localized loading, thread deformation, or chipped threads that may have been caused by thread interference in the propeller hub.

Reporting Requirements

(l) Report within 10 calendar days of finding affected propeller hubs to:

(1) The FAA, Wichita Aircraft Certification Office, 1801 Airport Road, Room 100, Wichita, KS 67209, Attention: Jeff Janusz, telephone (316) 946-4148; e-mail: jeff.janusz@faa.gov; and

(2) McCauley Propeller Systems, P.O. Box 7704, Wichita, KS 97277-7704.

(3) Reporting requirements have been approved by the Office of Management (OMB) and assigned OMB control number 2120-0056.

McCauley Credit Program

(m) McCauley Alert Service Bulletin No. ASB251A, dated September 28, 2005 contains information on a credit program for affected hubs.

Alternative Methods of Compliance

(n) The Manager, Wichita Aircraft Certification Office, has the authority to approve alternative methods of compliance for this AD if requested using the procedures found in 14 CFR 39.19.

Special Flight Permits

(o) Under 39.23, we are limiting the special flight permits for this AD by the following conditions:

(1) The propeller must have an oil-filled propeller hub and have no history of hub oil leakage.

(2) You must visually examine the propeller hub, and it must have no evidence of existing cracks.

(3) You are allowed a single-occupant (pilot only), non-revenue flight to a base of maintenance or FAA-approved propeller repair facility only.

(4) Your total flight time must not exceed 10 hours.

Related Information

(p) McCauley Propeller Systems Alert Service Bulletin No. ASB251A, dated September 28, 2005, pertains to the subject of this AD.

Issued in Burlington, Massachusetts, on November 22, 2005.
Peter A. White,
Acting Manager, Engine and Propeller Directorate, Aircraft Certification Service.

[FR Doc. 05-23430 Filed 11-29-05; 8:45 am]

BILLING CODE 4910-13-U